FEDERAL COMMUNICATIONS COMMISSION

47 CFR Part 54

[FCC 04-87]

Universal Service Support for Low-Income Consumers; Correction

AGENCY: Federal Communications Commission.

ACTION: Correcting amendments.

SUMMARY: This document contains corrections to the final regulations, which were published in the Federal Register at 69 FR 34590, June 22, 2004. The regulations related to the information reporting requirements for eligible telecommunications carriers (ETCs) contained in section 54.410 of the Code of Federal Regulations.

DATES: Effective July 21, 2008.

FOR FURTHER INFORMATION CONTACT: Dana Bradford, Telecommunications Access Policy Division, Wireline Competition Bureau, (202) 418-7400.

SUPPLEMENTARY INFORMATION:

Background

In a Report and Order and Further Notice of Proposed Rulemaking, the Commission modified rules to improve the effectiveness of the low-income universal service support mechanism. Among other steps taken, the order requires collection of certain information to certify and subsequently verify that beneficiaries of low-income support are qualified to receive the support.

Need for Correction

As published, the final regulations contain errors which may prove to be misleading and need to be clarified.

List of Subjects in 47 CFR Part 54

Communications common carriers, Infants and children, Reporting and recordkeeping requirements, Telecommunications, Telephone.

Accordingly, 47 CFR Part 54, Subpart E is corrected by making the following correcting amendments:

PART 54—UNIVERSAL SERVICE FOR LOW-INCOME CONSUMERS

1. The authority citation for part 54 continues to read as follows:

Authority: 47 U.S.C. 1, 4(i), 201, 205, 214 and 254 unless otherwise noted.

2. Section 54.410 is amended by revising paragraph (b) introductory text and (c) to read as follows:

§ 54.410 Certification and Verification of Consumer Qualification for Lifeline.

* * * * *

(b) Self-certifications. After income certification procedures are implemented, eligible telecommunications carriers and consumers are required to make certain self-certifications, under penalty of perjury, relating to the Lifeline program. Eligible telecommunications carriers must retain records of their self-certifications and those made by consumers.

* * * * *

(c) Verification of Continued Eligibility. Consumers qualifying for Lifeline may be required to verify continued eligibility on an annual basis.

(1) By one year from the effective date of these rules, eligible telecommunications carriers in states that mandate state Lifeline support must comply with state verification procedures to validate consumers' continued eligibility for Lifeline. The eligible telecommunications carrier must be able to document that it is complying with state regulations and verification requirements.

(2) By one year from the effective date of these rules, eligible telecommunications carriers in states that do not mandate state Lifeline support must implement procedures to verify annually the continued eligibility of a statistically valid random sample of their Lifeline subscribers. Eligible telecommunications carriers may verify directly with a state that particular subscribers continue to be eligible by virtue of participation in a qualifying program or income level. To the extent eligible telecommunications carriers cannot obtain the necessary information from the state, they may survey subscribers directly and provide the results of the sample to the Administrator. Subscribers who are subject to this verification and qualify under program-based eligibility criteria must prove their continued eligibility by presenting in person or sending a copy of their Lifeline-qualifying public assistance card and self-certifying, under penalty of perjury, that they continue to participate in the Lifeline-qualifying public assistance program. Subscribers who are subject to this verification and qualify under the income-based eligibility criteria must prove their continued eligibility by presenting current income documentation consistent with the income-certification process in § 54.410(a)(2). These subscribers must also self-certify, under penalty of perjury, the number of individuals in their household and that the documentation presented accurately represents their annual household income. An officer of the eligible telecommunications carrier must certify, under penalty of perjury, that the company has income verification procedures in place and that, to the best of his or her knowledge, the company was presented with corroborating documentation. The eligible telecommunications carrier must retain records of these certifications.

Federal Communications Commission.
Marlene H. Dortch,
Secretary.

[FR Doc. E8-16608 Filed 7-18-08; 8:45 am]

BILLING CODE 6712-01-P